DEPARTMENT OF THE INTERIOR

Fish and Wildlife Service

[FWS-R5-R-2011-N156; BAC-4311-K9-S3]

Iroquois National Wildlife Refuge, Genesee County and Orleans County, NY; Final Comprehensive Conservation Plan and Finding of No Significant Impact for Environmental Assessment

AGENCY: Fish and Wildlife Service, Interior.

ACTION: Notice of availability.

SUMMARY: We, the U.S. Fish and Wildlife Service (Service), announce the availability of our final comprehensive conservation plan (CCP) and finding of no significant impact (FONSI) for the environmental assessment (EA) for Iroquois National Wildlife Refuge (NWR, refuge), Genesee County and Orleans County, New York. In this final CCP, we describe how we will manage this refuge for the next 15 years.

ADDRESSES: You may view or obtain copies of the final CCP and FONSI/EA by any of the following methods. You may request a hard copy or CD-ROM.

Agency Web site: Download a copy of the documents at http://www.fws.gov/northeast/planning/Iroquois/ccphome.html.

E-mail: northeastplanning@fws.gov. Include “Iroquois NWR final CCP” in the subject line of the message.

U.S. Mail: Iroquois NWR, 1101 Casey Road, Basom, NY 14013.

In-Person Viewing or Pickup: Call 585-948-5445 to make an appointment (necessary for view/pickup only) during regular business hours at above address.

FOR FURTHER INFORMATION CONTACT: Thomas Roster, Project Leader, 585-948-5445, or Thomas Bonetti, Planning Team Leader, 413-253-8307 (phone); tom_bonetti@fws.gov (e-mail).

SUPPLEMENTARY INFORMATION:

Introduction

With this notice, we finalize the CCP process for Iroquois NWR in Basom, New York. We started this process through a notice in the Federal Register (73 FR 10279, February 26, 2008). We released the draft CCP and the EA to the public, announcing and requesting comments in a notice of availability in the Federal Register (75 FR 61171, October 4, 2010).

Iroquois NWR was established in 1958 under the Migratory Bird Conservation Act for “* * * use as an inviolate sanctuary, or for any other management purpose, for migratory birds” (16 U.S.C. 715d). The refuge consists of more than 10,800 acres within the rural townships of Alabama and Shelby, New York, midway between Buffalo and Rochester. Freshwater marshes and hardwood swamps are bounded by forests, grasslands, and wet meadows. These areas serve the habitat needs of both migratory and resident wildlife, including waterfowl, songbirds, mammals, and amphibians, as well as numerous indigenous plant species.

We announce our decision and the availability of the FONSI for the final CCP for Iroquois NWR in accordance with National Environmental Policy Act (NEPA) (40 CFR 1506.6(b)) requirements. We completed a thorough analysis of impacts on the human environment, which we included in the EA that accompanied the draft CCP. The CCP will guide us in managing and administering Iroquois NWR for the next 15 years.

Background

The National Wildlife Refuge System Administration Act of 1966 (16 U.S.C. 668dd-668ee) (Administration Act), as amended by the National Wildlife Refuge System Improvement Act of 1997, requires us to develop a CCP for each NWR. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including Selected Alternative

Our draft CCP and our EA (75 FR 61171) addressed several issues. To address these, we developed and evaluated the following alternatives.

Alternative A (Current Management): Alternative A continues existing programs and activities and serves as the baseline against which to compare the other alternatives. Under current management, we manage open water and emergent marsh impoundments, early successional habitat including grasslands, shrublands, and forest habitat including a conifer plantation. Under alternative A, we would continue to conduct furbearer management, monitor waterfowl during spring and fall migration, conduct landbird surveys, and manage for invasive species in the same manner as at present. We would maintain existing opportunities for visitors to engage in wildlife observation and photography, and environmental education and interpretation, as well as maintain existing hunting and fishing opportunities on the refuge. We would maintain existing infrastructure and buildings, and maintain current staffing levels.

Alternative B (the Service-preferred alternative): This alternative focuses on enhancing the conservation of wildlife through habitat management, as well as providing additional visitor opportunities on the refuge. Alternative B incorporates existing management activities and/or provides new initiatives or actions aimed at improving efficiency and progress towards refuge goals and objectives. Some of the major strategies proposed include increasing grassland, shrubland, and forest habitats, replacing non-native conifer plantation with native forest species, restricting public access to designated areas of the refuge year-round, and implementing a permit system for hunting upland game, migratory birds, and big game. This alternative would increase some existing wildlife-dependent recreational activities, including wildlife observation and hunting. We would co-locate the Lower Great Lakes Fish and Wildlife Conservation Office (LGLFWCO) with a new visitor contact station and administrative building by adding on to the existing building. If funds permit, we would expand our existing staff to include a full-time permanent law enforcement officer, maintenance worker, biological technician, and one part-time biological technician.

Alternative C (Improved Biological Integrity): Alternative C prominently features additional management that aims to restore or mimic natural ecosystem processes or function to achieve refuge purposes. Under alternative C, refuge habitat conditions would change as a result of management decisions that target a more natural state and emphasize restoration to historical habitats. Refuge impoundments would no longer be actively managed and some would be removed. This would result in a decrease of 329 acres of open water and emergent marsh habitat. Grassland acres would be reduced by 50 percent as only the two largest grassland units would be managed. Management of shrublands would be discontinued, and the only shrub habitats that would remain are small native shrub swamps. Forest cover would increase (1,548 additional acres) under this alternative in response to the reversion, succession, and conversion of conifer plantations and other refuge habitats to forest. Similar to alternative B, we propose to restrict public access to designated areas of the refuge year-round, allowing wildlife observation, hiking, and walking on established refuge nature trails. Also, we propose to co-locate the LGLFWCO currently located in Amherst, New York, with a new visitor contact station and administration building at Iroquois NWR.

Comments

We solicited comments on the draft CCP and the EA for Iroquois NWR via a Federal Register notice that was published on October 4, 2010 (75 FR 61171). We received 37 comments, which we assessed during the content analysis process. Appendix I in the final CCP includes a summary of those comments, our responses to them, and additional rationale for any changes made.

Selected Alternative

We have selected alternative B for implementation, with the following modifications:

• Due to comments directed at closing the refuge to wandering, we decided to allow visitors unrestricted access off designated trails, but only during the hunting season (October 1 to the end of February). All visitors, including those wandering on the refuge, must wear hunter orange during the firearm deer seasons. Hunter orange must be visible from 360 degrees and must be at least 400 square inches of solid fluorescent orange on head, chest, and back. There will be no wandering in any refuge wetlands, only upland wandering will be permitted. The refuge will continue to restrict public access for hiking and walking to designated trails from March 1 to September 30.

• Based on feedback we received from our partners and the public, we decided to modify the alternative B turkey hunting proposal. The new framework will consist of two seasons. The first season will run from May 1 to May 15 with 50 permits available. The second season will run from May 16 to May 31 with 25 permits available. Permits will be allocated on a lottery system basis with hunters choosing their desired season in order of preference. Hunters may receive a permit for one season only.

• The refuge also reconsidered its decision to not allow fall turkey hunting on the refuge. There will be no additional administrative burden on the refuge by having this season added to the refuge hunts.

Public Availability of Documents

In addition to any methods in ADDRESSES, you can view or obtain documents on our regional planning Web site: http://www.fws.gov/northeast/planning/.

Dated: September 16, 2011.
Theresa E. Rabot,
Acting Regional Director, Northeast Region, U.S. Fish and Wildlife Service, Hadley, Massachusetts.

[FR Doc. 2011-26934 Filed 10-17-11; 8:45 am]

BILLING CODE 4310-55-P